OFFICE OF PERSONNEL MANAGEMENT

Excepted Service

AGENCY: U.S. Office of Personnel Management (OPM).

ACTION: Notice.

SUMMARY: This notice identifies Schedule A, B, and C appointing authorities applicable to a single agency that were established or revoked from September 1, 2016 to September 30, 2016.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during September 2016.

Schedule B

No schedule B authorities to report during September 2016.

The following Schedule C appointing authorities were approved during September 2016.

Agency name | Organization name | Position title | Request No. | Effective date
DEPARTMENT OF AGRICULTURE | Office of Communications | Press Assistant Deputy Press Secretary | DA160166 DA160176 | 09/06/2016 09/26/2016
| Foreign Agricultural Service | Speechwriter & Communications Advisor | DA160169 | 09/06/2016
| Office of the Under Secretary for Research, Education & Economics | Confidential Assistant | DA160173 | 09/14/2016
| Office of the Under Secretary for Marketing and Regulatory Programs | Confidential Assistant | DA160175 | 09/14/2016
DEPARTMENT OF COMMERCE | Office of the Deputy Secretary | Special Advisor | DC160199 | 09/12/2016
| Office of Scheduling and Advance | Scheduling and Advance Assistant | DC160203 | 09/29/2016
COUNCIL ON ENVIRONMENTAL QUALITY | Office of the Director | Executive Assistant | EQ160002 | 09/08/2016
DEPARTMENT OF DEFENSE | Office of the Secretary of Defense | Special Assistant | DD160177 | 09/01/2016
| Office of the Under Secretary of Defense (Acquisition, Technology, and Logistics) | Special Assistant | DD160184 | 09/08/2016
DEPARTMENT OF EDUCATION | Office of Elementary and Secondary Education | Deputy Assistant Secretary for Policy and Strategic Initiatives | DB160127 | 09/14/2016
| Office of the Secretary | Deputy Director of Scheduling and Advance | DB160130 | 09/30/2016
| Office of the Under Secretary | Director of Operations | DB160131 | 09/30/2016
DEPARTMENT OF ENERGY | Office of Energy Policy and Systems Analysis | Special Advisor | DE160151 | 09/08/2016
| Office of the Deputy Secretary | Special Advisor | DE160156 | 09/23/2016
| Office of Scheduling and Advance | Special Advisor | DE160158 | 09/23/2016
| Office of Management | Senior Advisor and Director of Special Projects | DE160159 | 09/29/2016
ENVIRONMENTAL PROTECTION AGENCY | Office of the Administrator | Special Assistant | EP160058 | 09/14/2016
DEPARTMENT OF HEALTH AND HUMAN SERVICES | Administration for Children and Families | Special Advisor | DH160177 | 09/01/2016
| Office of the Secretary | Senior Advisor | DH160180 | 09/01/2016
|  | Special Assistant | DH160181 | 09/12/2016
|  | Senior Regulatory Advisor | DH160197 | 09/22/2016
| Office of Intergovernmental and External Affairs | Special Advisor | DH160183 | 09/02/2016
| Centers for Medicare and Medicaid Services | Special Advisor for Engagement | DH160192 | 09/13/2016
| Office of the Assistant Secretary for Legislation | Chief of Staff | DH160195 | 09/15/2016
| Office of the Assistant Secretary for Health | Associate Director for Operations and Engagement | DH160198 | 09/29/2016
|  | Special Assistant | DH160196 | 09/15/2016
DEPARTMENT OF HOMELAND SECURITY | Office of the Executive Secretariat | Briefing Book Coordinator | DM160310 | 09/01/2016
| Office of the Assistant Secretary for Policy | Special Assistant (2) | DM160307 DM160296 | 09/02/2016 09/15/2016
| Office of the Assistant Secretary for Public Affairs | Director of Strategic Communications | DM160305 | 09/07/2016
|  | Assistant Press Secretary | DM160311 | 09/08/2016
| United States Citizenship and Immigration Services | Special Assistant | DM160306 | 09/07/2016
| Office of the Assistant Secretary for International Affairs—Policy | Special Assistant, Office of International Affairs | DM160313 | 09/12/2016
| Office of the Chief of Staff | Counselor | DM160315 | 09/30/2016
DEPARTMENT OF HOUSING AND URBAN DEVELOPMENT | Office of the Administration | Special Assistant and Briefing Book Coordinator | DU160048 | 09/07/2016
|  | Deputy Executive Secretary | DU160050 | 09/29/2016
| Office of Congressional and Intergovernmental Relations | Congressional Relations Specialist Assistant | DU160049 | 09/15/2016
DEPARTMENT OF THE INTERIOR | Secretary's Immediate Office | Deputy Communications Director and Press Secretary | DI160094 | 09/16/2016
| Office of the Assistant Secretary—Fish and Wildlife and Parks | Special Assistant | DI160093 | 09/23/2016
OFFICE OF MANAGEMENT AND BUDGET | Office of Legislative Affairs Office of Federal Procurement Policy | Confidential Assistant Confidential Assistant | BO160049 BO160050 | 09/16/2016 09/23/2016
PRESIDENT'S COMMISSION ON WHITE HOUSE FELLOWSHIPS | Office of the Director | Special Assistant | WH160004 | 09/01/2016
SMALL BUSINESS ADMINISTRATION | Office of Congressional and Legislative Affairs | Deputy Assistant Administrator for Congressional and Legislative Affairs | SB160036 | 09/16/2016
| Office of Capital Access | Special Advisor | SB160037 | 09/23/2016
DEPARTMENT OF THE TREASURY | Office of the Assistant Secretary (Public Affairs) | Senior Digital Strategy Specialist Spokesperson | DY160124 DY160125 | 09/14/2016 09/14/2016
DEPARTMENT OF VETERANS AFFAIRS | Office of the Secretary and Deputy | Special Advisor and White House Liaison | DV160079 | 09/20/2016
| Office of Planning and Evaluation | Chief Design Officer | DV160080 | 09/20/2016

The following Schedule C appointing authorities were revoked during September 2016.

Agency name | Organization name | Position title | Request No. | Date vacated
DEPARTMENT OF AGRICULTURE | Rural Housing Service | State Director—Virginia | DA140054 | 09/02/2016
OFFICE OF THE SECRETARY OF DEFENSE | Office of the Under Secretary of Defense (Policy) | Special Assistant to the Deputy Assistant Secretary of Defense for Middle East | DD150002 | 09/03/2016
DEPARTMENT OF HOUSING AND URBAN DEVELOPMENT | Office of the Secretary | Deputy White House Liaison | DU150031 | 09/17/2016
NATIONAL ENDOWMENT FOR THE ARTS | Office of the Chairman | Senior Advisor to the Chairman and Director of Strategic Partnerships | NA110005 | 09/09/2016
SMALL BUSINESS ADMINISTRATION | Office of Communications and Public Liaison | Deputy Press Secretary | SB150046 | 09/03/2016
DEPARTMENT OF VETERANS AFFAIRS | Office of Public Affairs | Special Advisor | DV160033 | 09/20/2016

Authority: 5 U.S.C. 3301 and 3302; E.O. 10577, 3 CFR, 1954-1958 Comp., p. 218.

U.S. Office of Personnel Management.
Beth F. Cobert,
Acting Director.

[FR Doc. 2017-01470 Filed 1-23-17; 8:45 am]

BILLING CODE 6325-39-P